DEPARTMENT OF HOUSING AND URBAN DEVELOPMENT

[Docket No. FR-7098-N-02]

60-Day Notice of Proposed Information Collection: OMB Title: Rental Assistance Demonstration (RAD); Supporting Contracts and Processing Requirements; OMB Control No.: 2502-0612

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 1, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Darian Ziegler, PRA Liaison, Department of Housing and Urban Development, 451 7th Street SW, Room 9139-37, Washington, DC 20410.

FOR FURTHER INFORMATION CONTACT: Darian Ziegler, PRA Liaison, Department of Housing and Urban Development, 451 7th Street SW, Washington, DC 20410; email: darian.ziegler@hud.gov or telephone (202) 402-4144. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Darian Ziegler.

SUPPLEMENTARY INFORMATION: This notice informs the public that HUD is seeking approval from OMB for the information collection described in Section A.

A. Overview of Information Collection

Title of Information Collection: Rental Assistance Demonstration (RAD); Supporting Contracts and Processing Requirements.

OMB Approval Number: 2502-0612.

Type of Request: Revision of a currently approved collection.

Form Number(s): 52611, 52614, 52617, 52619, 52620A, 52620B, 52621A, 52621B, 52624, 52625, 5679, 5977, 5978, 5886, 5887, 5888, 5889, 5890, 5891, 5892, 5893, 5894, 5895, 5896, 5897, 5898, 5899, 5901, 5902, 5903, 5904.

Description of the need for the information and proposed use: RAD is authorized by the Consolidated and Further Continuing Appropriations Act of 2012 (Pub. L. 112-55, approved November 18, 2011), as amended by the Consolidated Appropriations Act, 2014 (Pub. L. 113-76, approved January 17, 2014), the Consolidated and Further Continuing Appropriations Act, 2015 (Pub. L. 113-235, approved December 16, 2014), the Consolidated Appropriations Act, 2016 (Pub. L. 114-113, approved December 18, 2015), the Consolidated Appropriations Act, 2017 (Pub. L. 115-31, approved May 5, 2017), the Consolidated Appropriations Act, 2018 (Pub. L. 115-141, approved March 23, 2018), the Consolidated Appropriations Act, 2022 (Pub. L. 117-103, approved March 15, 2022), and the Consolidated Appropriations Act, 2024 (Pub. L. 118-42, approved March 9, 2024) (collectively, the “RAD Statute”).

RAD allows Public Housing, Mod Rehab, Rent Supp, RAP, and 202 PRAC properties to convert to long-term project-based Section 8 rental assistance contracts. Participation in the demonstration is voluntary, and HUD approval is discretionary. Participating Public Housing Agencies (PHAs) and Multifamily Owners are required to submit documentation for processing and completing the conversion. Through these documents (collectively, the RAD documents), HUD evaluates whether the PHA or owner has met all of the requirements necessary to complete conversion as outlined in Housing Notice 2019-09/PIH Notice 2019-23 (HA) Rental Assistance Demonstration—Final Implementation Notice (RAD Notice) Revision 4 and Housing/PIH Notice 2016-17—Rental Assistance Demonstration (RAD) Notice Regarding Fair Housing and Civil Rights Requirements and Relocation Requirements Applicable to RAD First Component—Public Housing Conversions or successor notices. The RAD processing request is made through a Web-based portal. Overall, the RAD documents and information requested through such documents allow HUD to determine which applicants continue to meet the eligibility and conversion requirements. Finally, all applicants will be required to sign the appropriate contractual documents to complete conversion and bind both the applicant and HUD, as well as set forth the rights and duties of the applicant and HUD, with respect to the converted project and any payments under that project. This is a revision of a currently approved collection to include three documents that required edits per the President's Executive Order 14168 to remove references of Diversity, Equity, Inclusion and Accessibility (DEIA). The edit revises subpart (a) to remove equal access and adds a reference to regulation 24 CFR.5.105(a). Additionally, subpart (b) of Section 2.12 and 2.10 that references the Equal Access Rule is deleted in its entirety. Documents that include those subparts are:

• Form 52620B, Part II PBRA Housing Assistance Payments Contract Rental Assistance Demonstration (RAD) for Conversions of Public Housing to Project-Based Section 8 (Component 1).

• Form 52617, Second Component Housing Assistance Payments (HAP) Contract RAD for the Conversion of Moderate Rehabilitation to Project-Based Section 8 (PBRA) Part II.

• Form 5897, RAD Second Component Project Rental Assistance Contract (PRAC) Project-Based Section 8 (PBRA) Housing Assistance Payments (HAP) Contract Part II. In addition to the edits described above, the RAD/Section 18 Blend Rider to the RAD Use Agreement (Form 5900) is removed from the currently approved collection as the Rider is no longer applicable. The RAD Supplemental Notice 4C, published January 16, 2025, changed policy to streamline RAD/Section 18 blends by permitting both RAD units and PBV units resulting from a Section 18 action to be on a single RAD HAP contract.

Respondents: Public housing agencies and multifamily owners.

Estimated Number of Respondents: 370.

Estimated Number of Responses: 370.

Frequency of Response: Once per application.

Average Hours per Response: 15.

Total Estimated Burdens: 3,041.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 2 of the Paperwork Reduction Act of 1995, 44 U.S.C. 3507.

Vance T. Morris,
Associate General Deputy Assistant Secretary for Housing.

[FR Doc. 2025-09884 Filed 5-30-25; 8:45 am]

BILLING CODE 4210-67-P